FEDERAL ELECTION COMMISSION

Sunshine Act Meeting Notices

DATE & TIME: Thursday, March 8, 2007, at 10 a.m.

PLACE: 999 E Street, NW., Washington, DC (Ninth Floor)

STATUS: This Meeting Will be Open to the Public.

THE FOLLOWING ITEMS HAVE BEEN ADDED TO THE AGENDA: Report of the Audit Division on Kucinich for President, Inc.; Report of the Audit Division on LaRouch in 2004.

PERSON TO CONTACT FOR INFORMATION: Mr. Robert Biersack, Press Officer, Telephone: (202) 694-1220.

Mary W. Dove,
Secretary of the Commission.

[FR Doc. 07-1014 Filed 3-1-07; 2:50 pm]

BILLING CODE 6715-01-M